NATIONAL SCIENCE FOUNDATION

Committee of Visitors; Special Emphasis Panel in Integrative Activities; Notice of Meeting

In accordance with the Federal Advisory Committee Act (Pub. L. 92-463, as amended), the National Science Foundation announces the following meeting:

Name: Committee of Visitors, Special Emphasis Panel in Integrative Activities (1373).

Date and Time: June 14-15, 2000; 8:30 a.m.-5 p.m.; June 16, 2000; 8:30 a.m.-12 p.m.

Place: Room 390, National Science Foundation, 4201 Wilson Blvd., Arlington, VA.

Type of Meeting: Part-Open.

Agenda:

Dates | Meeting times | Type of session | Agenda topic
6/14 | 8:30-11:00 | Open | Program overview.
| 11:00-5:00 | Closed | Review of proposals, proposal processing.
6/15 | 8:30-5:00 | Closed | Review of proposals, proposal processing.
6/16 | 8:30-11:00 | Closed | Review of proposals, proposal processing.
| 11:00-12:00 | Open | Presentation of Findings.

Contact: Joseph F. Burt, Office of Integrative Activities, Room 1270, National Science Foundation, 4201 Wilson Blvd., Arlington, VA 22230, (703) 306-1040.

Purpose of Meeting: The Committee of Visitors for the Major Research Instrumentation Program (MRI) will meet to conduct a review of the process by which MRI proposals are reviewed and the outcomes achieved by funded MRI projects.

Reason for Closing: During clsoed sessions, the Committee of Visitors will examine proposals that include information of a proprietary or confidential nature, including technical information; financial data, such as salaries; and personal information concerning individuals associated with the proposals. These matters are exempt under 5 U.S.C. 552b(c), (4) and (6) of the Government in the Sunshine Act.

Dated: May 12, 2000.
Karen J. York,
Committee Management Officer.

[FR Doc. 00-12451 Filed 5-17-00; 8:45 am]

BILLING CODE 7555-01-M